DEPARTMENT OF ENERGY

Western Area Power Administration

Application of the Energy Planning and Management Program Power Marketing Initiative to the Boulder Canyon Project

AGENCY: Western Area Power Administration, Department of Energy.

ACTION: Notice of Extension of Decision Effective Date and Comment Period.

SUMMARY: The Western Area Power Administration (Western), a Federal power marketing agency of the Department of Energy (DOE), is extending the effective date of decisions it announced and the comment period on proposals made in a notice published in the Federal Register on April 27, 2011.

DATES: The effective date of the decisions announced in Western's April 27, 2011, Federal Register notice (FRN) has been extended from May 27, 2011, to December 31, 2011. The deadline for the submission of comments on the proposals described in Western's April 27, 2011 FRN has been extended from June 16, 2011, to September 1, 2011.

Western will hold a public information forum and a public comment forum regarding the proposals described in its April 27, 2011 FRN. The public information forum will be held on July 13, 2011, 10 a.m., MST, in Phoenix, Arizona. The public comment forum will be held on August 17, 2011, 10 a.m., MST, in Phoenix, Arizona.

Western will accept written comments on or before September 1, 2011. Western reserves the right to not consider any comments received after this date.

ADDRESSES: Comments may be submitted to: Mr. Darrick Moe, Western Area Power Administration, Desert Southwest Regional Manager, P.O. Box 6457, Phoenix, AZ 85005-6457. Comments may also be faxed to (602) 605-2490 or e-mailed to Post2017BCP@wapa.gov.

The public information and comment forum location will be the Western Area Power Administration, Desert Southwest Regional Office, 615 S. 43rd Ave., Phoenix, Arizona.

FOR FURTHER INFORMATION CONTACT: Mr. Mike Simonton, Public Utilities Specialist, Desert Southwest Region, Western Area Power Administration, P.O. Box 6457, Phoenix, AZ 85005, telephone (602) 605-2675, e-mail Post2017BCP@wapa.gov. Information regarding Western's Boulder Canyon Project (BCP) Post-2017 remarketing efforts, the Energy Management and Planning Program (Program), and the Conformed General Consolidated Power Marketing Criteria or Regulations for Boulder City Area Projects (Conformed Criteria) published in the Federal Register on December 28, 1984 (49 FR 50582), are available at http://www.wapa.gov/dsw/pwrmkt.

SUPPLEMENTARY INFORMATION:

In an April 27, 2011 FRN, Western announced that it will apply the Program's Power Marketing Initiative to the BCP and that Western has determined that all BCP electric service contracts resulting from this remarketing effort shall have a term of thirty (30) years commencing October 1, 2017. The effective date of these decisions was initially May 27, 2011.

Western also made additional proposals relative to the BCP Post-2017 remarketing effort, including the amount of marketable contingent capacity and firm energy, the amount of marketable contingent capacity and firm energy to be extended to existing contractors, the size of the resource pool to be created, and excess energy provisions. Western announced that public comments on these proposals would be accepted through June 16, 2011.

Since publication of this FRN, Western has received comments requesting an extension of the effective date of these decisions and the comment period to allow additional time for on-going legislative activities. In consideration of these comments, Western has decided to extend the effective date of these decisions and the comment period for the proposals described in Western's April 27, 2011 FRN. The effective date of these decisions is now December 31, 2011, and comments will be accepted until September 1, 2011 (see DATES).

Western canceled the public information and comment forums that were scheduled as a result of its April 27, 2011 FRN. Western did not hold public forums on the BCP Post-2017 remarketing effort on May 25, 2011. Western has rescheduled these public forums as described in this notice (see DATES).

This extension provides additional time for on-going legislative activities as well as additional opportunity for interested parties, including Native American Tribes, to consult with Western and comment on the proposals.

Dated: May 18, 2011.
R. Jack Dodd,
Assistant Administrator for Corporate Liaison.

[FR Doc. 2011-12723 Filed 5-23-11; 8:45 am]

BILLING CODE 6450-01-P